DEPARTMENT OF THE INTERIOR

Bureau of Land Management

[OR-63495; LLORC00000: L14300000 EU0000; HAG-09-0074]

Notice of Realty Action: Receipt of Application for the Conveyance of Federally-Owned Mineral Interests; Oregon

AGENCY: Bureau of Land Management, Interior.

ACTION: Notice of realty action.

SUMMARY: This action informs the public of the receipt of an application from the surface estate owner for the acquisition of the Federally-owned mineral estate.

FOR FURTHER INFORMATION CONTACT: Paul Rodriguez, Realty Specialist, Coos Bay District, 1300 Airport Lane, North Bend, Oregon 97459, at (541) 751-4462.

SUPPLEMENTARY INFORMATION: Notice is hereby given pursuant to Section 209 of the Act of October 21, 1976 (90 Stat. 2757), William H. Hitner Jr. and Pamela J. Hitner has filed an application to purchase the Federally-owned mineral estate in the land described below:

Willamette Meridian

T. 28 S., R. 12 W.,

Sec. 29, NW¼NE¼.

The area described contains 36.01 acres, more or less, in Coos County, Oregon.

On March 25, 2009, the mineral interest described above will be segregated to the extent that it will not be open to appropriation under the public land laws including the mining laws. The segregative effect of the application shall terminate either upon issuance of a patent or other document of conveyance of such mineral interests, or upon rejection of the application, or two years from the date of filing of the application, February 9, 2006, whichever comes first. Due to a delay in processing the application as a result of mutual interest in coalbed methane exploration, the two year segregative effect will begin on March 25, 2009, as agreed to by the applicant and the Bureau of Land Management.

(Authority: 43 CFR 2720.1-1(2)(b))

Dated: March 19, 2009.
Roberta B. Estes,
Acting District Manager.

[FR Doc. E9-6571 Filed 3-24-09; 8:45 am]

BILLING CODE 4310-33-P